DEPARTMENT OF ENERGY

Federal Energy Regulatory Commission

18 CFR Parts 35 and 37

[Docket Nos. RM05-17-002 and RM05-25-002]

Preventing Undue Discrimination and Preference in Transmission Service

Issued July 27, 2007.

AGENCY: Federal Energy Regulatory Commission, DOE.

ACTION: Notice allowing Post-Technical Conference comments.

SUMMARY: On July 30, 2007, the Federal Energy Regulatory Commission convened a technical conference addressing issues related to lead-time for undesignated network resources in order to make firm third-party sales and the eligibility of on-system seller's choice and system sales to be designated as network resources. This notice provides an opportunity for interested parties to file written comments in relation to the issues that were the subject of the technical conference.

FOR FURTHER INFORMATION CONTACT: Thomas E. Dautel, Office of Energy Markets and Reliability, Federal Energy Regulatory Commission, 888 First Street, NE., Washington, DC 20426, (202) 502-6196.

SUPPLEMENTARY INFORMATION:

Notice Allowing Post-Technical Conference Comments

August 1, 2007.

Pursuant to the Commission's June 26, 2007 Order in this proceeding, 119 FERC ¶ 61,322 (2007), a staff technical conference was convened on Monday, July 30, 2007, from 9 a.m. to 3 p.m. at the offices of the Federal Energy Regulatory Commission. The technical conference addressed issues related to the minimum lead-time for undesignating network resources in order to make firm third-party sales and the eligibility of on-system seller's choice and system sales to be designated as network resources, as clarified in Order No. 890.¹

¹ Preventing Undue Discrimination and Preference in Transmission Service, Order No. 890, 72 FR 12266 (March 15, 2007), FERC Stats. & Regs. ¶ 31,241 at PP 1483 and 1557-59 (2007), reh'g pending.

All interested persons are invited to file written comments no later than August 13, 2007 in relation to the issues that were the subject of the technical conference. Those filing comments are specifically encouraged to identify alternative ways to address the minimum lead-time for undesignating network resources in order to make firm third-party sales and the eligibility of on-system seller's choice and system sales to be designated as a network resource without impairing the ability of transmission providers to calculate available transfer capability (ATC) or unduly discriminating among classes of transmission customers. Comments may either be filed on paper or electronically via the eFiling link on the Commission's Web site at http://www.ferc.gov.

For further information, please contact Tom Dautel at (202) 502-6196 or e-mail at thomas.dautel@ferc.gov.

Kimberly D. Bose,
Secretary.

[FR Doc. E7-15401 Filed 8-7-07; 8:45 am]

BILLING CODE 6717-01-P